DEPARTMENT OF THE TREASURY

Internal Revenue Service

26 CFR Part 1

[REG-118775-06]

RIN 1545-BF64

Revisions to Regulations Relating to Repeal of Tax on Interest of Nonresident Alien Individuals and Foreign Corporations Received From Certain Portfolio Debt Investments; Hearing Cancellation

AGENCY: Internal Revenue Service (IRS), Treasury.

ACTION: Cancellation of notice of public hearing on proposed rulemaking.

SUMMARY: This document cancels a public hearing on proposed regulations under sections 871 and 881 of the Internal Revenue Code relating to the exclusion from gross income of portfolio interest paid to a nonresident alien individual or foreign corporation.

DATES: The public hearing, originally scheduled for October 6, 2006, at 10 a.m., is cancelled.

FOR FURTHER INFORMATION CONTACT: Richard A. Hurst of the Publications and Regulations Branch, Legal Processing Division, Associate Chief Counsel (Procedure and Administration), at Richard.A.Hurst@irscounsel.treas.gov.

SUPPLEMENTARY INFORMATION: A notice of public hearing that appeared in the Federal Register on Wednesday, August 9, 2006 (71 FR 45474), announced that a public hearing was scheduled for October 6, 2006, at 10 a.m., in the IRS Auditorium (New Carrollton Federal Building), 5000 Ellin Road, Lanham, MD 20706. The subject of the public hearing is under sections 871 and 881 of the Internal Revenue Code.

The public comment period for these regulations expired on August 24, 2006. The notice of proposed rulemaking and notice of public hearing instructed those interested in testifying at the public hearing to submit a request to speak and an outline of the topics to be addressed. As of Thursday, August 31, 2006, no one has requested to speak. Therefore, the public hearing scheduled for October 6, 2006, is cancelled.

Guy R. Traynor,
Chief, Publications and Regulations Branch, Legal Processing Division, Associate Chief Counsel (Procedure and Administration).

[FR Doc. E6-15127 Filed 9-12-06; 8:45 am]

BILLING CODE 4830-01-P